Title 3—

The President

Proclamation 8087 of November 30, 2006

World AIDS Day, 2006

By the President of the United States of America

A Proclamation

HIV/AIDS is a global health crisis and a constant struggle for many of our families, friends, and neighbors. On World AIDS Day, we underscore our commitment to fight the AIDS pandemic with compassion and decisive action.

America leads the world in the fight against HIV/AIDS, and through the Emergency Plan for AIDS Relief we are combating the disease in countries around the world. Through the New Partners Initiative, we are supporting faith-based and community organizations that offer much of the health care in the developing world, so that we can reach more people more effectively. In addition, the United States and other concerned countries are promoting a comprehensive strategy to prevent the spread of HIV/AIDS. This includes the ABC approach—encouraging abstinence, being faithful, and using condoms, with abstinence as the only sure way to avoid the sexual transmission of HIV/AIDS.

As we work to fight HIV/AIDS globally, we must also ensure our citizens at home have the resources and support they need for treatment and prevention of this disease. Today, more than 1 million Americans are living with HIV/AIDS, and many of these individuals are unaware that they are infected. We will continue to provide medical care, counseling, and testing for those in greatest need of HIV/AIDS assistance, and I have asked the Congress to reform and reauthorize the Ryan White CARE Act and provide new funding to improve distribution of HIV/AIDS medicines in America. The Federal Government is also working closely with faith-based and other community organizations to provide services to individuals with HIV/AIDS and end the stigma of AIDS.

America is blessed with scientific knowledge and compassionate citizens, and we are guided by our founding conviction that each life has matchless value. On World AIDS Day and throughout the year, we stand with our friends and partners around the world in the urgent struggle to fight this virus, comfort those who are affected, and save lives.

NOW, THEREFORE, I, GEORGE W. BUSH, President of the United States of America, by virtue of the authority vested in me by the Constitution and laws of the United States, do hereby proclaim December 1, 2006, as World AIDS Day. I urge the Governors of the States and the Commonwealth of Puerto Rico, officials of the other territories subject to the jurisdiction of the United States, and the American people to join me in appropriate activities to remember those who have lost their lives to AIDS, to work to prevent this deadly disease, and to comfort and support those living with HIV/AIDS.

IN WITNESS WHEREOF, I have hereunto set my hand this thirtieth day of November, in the year of our Lord two thousand six, and of the Independence of the United States of America the two hundred and thirty-first.

[FR Doc. 06-9537

Filed 12-1-06; 10:44 am]

Billing code 3195-01-P